DEPARTMENT OF TRANSPORTATION

Federal Aviation Administration

T.F. Green Airport, Warwick, Rhode Island; FAA Approval of Noise Compatibility Program

AGENCY: Federal Aviation Administration, DOT.

ACTION: Notice.

SUMMARY: The Federal Aviation Administration (FAA) announces its findings on the noise compatibility program submitted by the Rhode Island Airport Corporation under the provisions of title I of the Aviation Safety and Noise Abatement Act of 1979 (Public Law 96-193) and 14 CFR part 150. These findings are made in recognition of the description of Federal and non-federal responsibilities in Senate Report No. 96-52 (1980). On December 22, 1999, the FAA determined that the noise exposure maps submitted by the Rhode Island Airport Corporation under Part 150 were in compliance with applicable requirements. On June 15, 2000, the Acting Associate Administrator approved the T.F. Green Airport noise compatibility program. Of the 47 proposed program elements, 40 were approved and the remaining 7 were acknowledged as needing no FAA approval.

EFFECTIVE DATES: The effective date of the FAA's approval of the T.F. Green Airport noise compatibility program is June 15, 2000.

FOR FURTHER INFORMATION CONTACT: John C. Silva, Federal Aviation Administration, New England Region, Airports Division, 12 New England Executive Park, Burlington, Massachusetts 01803, Telephone (617) 238-7602.

Documents reflecting this FAA action may be obtained from the same individual.

SUPPLEMENTARY INFORMATION: This notice announces that the FAA has given its overall approval to the T.F. Green Airport noise compatibility program, effective June 15, 2000.

Under Section 104(a) of the Aviation Safety and Noise Abatement Act of 1979 (hereinafter the Act), an airport operator who has previously submitted a noise exposure map may submit to the FAA a noise compatibility program which sets forth the measures taken or proposed by the airport operator for the reduction of existing non-compatible land uses and prevention of additional non-compatible land uses within the area covered by the noise exposure maps.

The Act requires such programs to be developed in consultation with interested and affected parties including local communities, government agencies, airport users, and FAA personnel.

Each airport noise compatibility program developed in accordance with Federal Aviation Regulation (FAR), part 150 is a local program, not a federal program. The FAA does not substitute its judgment for that of the airport proprietor with respect to which measures should be recommended for action. The FAA's approval or disapproval of FAR part 150 program recommendations is measured according to the standards expressed in part 150 and the Act, and is limited to the following determinations:

(a) The noise compatibility program was developed in accordance with the provisions and procedures of FAR part 150.

(b) Program measures are reasonably consistent with achieving the goals of reducing existing non-compatible land uses around the airport and preventing the introduction of additional non-compatible land uses;

(c) Program measures would not create an undue burden on interstate or foreign commerce, unjustly discriminate against types or classes of aeronautical uses, violate the terms of airport grant agreements, or intrude into areas preempted by the federal government; and

(d) Program measures relating to the use of flight procedures can be implemented within the period covered by the program without derogating safety, adversely affecting the efficient use and management of the navigable airspace and air traffic control systems, or adversely affecting other powers and responsibilities of the Administrator as prescribed by law.

Specific limitations with respect to FAA's approval of an airport noise compatibility program are delineated in FAR part 150, section 150.5. Approval is not a determination concerning the acceptability of land uses under Federal, state, or local law. Approval does not by itself constitute a FAA implementing action. A request for Federal action or approval to implement specific noise compatibility measures may be required, and an FAA decision on the request may require an environmental assessment of the proposed action.

Approval does not constitute a commitment by the FAA to financially assist in the implementation of the program nor a determination that all measures covered by the program are eligible for grant-in-aid funding from the FAA under the Airport and Airway Improvement Act of 1982. Where Federal funding is sought, requests for project grants must be submitted to the FAA regional Office in Burlington, Massachusetts.

The Rhode Island Airport Corporation submitted to the FAA, on November 4, 1999, noise exposure maps, descriptions, and other documentation produced during the noise compatibility planning study conducted from March 1998 to November 1999. The T.F. Green Airport noise exposure maps were determined by FAA to be in compliance with applicable requirements on December 22, 1999. Notice of this determination was published in the Federal Register on January 5, 2000.

The T.F. Green study contains a proposed noise compatibility program comprised of actions designed for implementation by airport management and adjacent jurisdictions from the date of study completion to beyond the year 2003. It was requested that the FAA evaluate and approve this material as a noise compatibility program as described in Section 104(b) of the Act. The FAA began its review of the program on December 22, 1999, and was required by a provision of the Act to approve or disapprove the program within 180 days (other than the use of new flight procedures for noise control). Failure to approve or disapprove such a program within the 180-day period shall be deemed to be an approval of such a program.

The submitted program contained 47 proposed actions for noise mitigation on and off the airport. The FAA completed its review and determined that the procedural and substantive requirements of the Act and FAR Part 150 have been satisfied. The overall program, therefore, was approved by the Acting Associate Administer effective June 15, 2000.

Of the 47 proposed program elements, 40 were approved and the remaining 7 were acknowledged as needing no FAA approval. The 47 program elements include construction of a parallel taxiway and noise barriers, a voluntary nighttime use restriction between midnight and 6 am for scheduled air carriers and discouragement of engine maintenance run-ups during this period, discouragement of engine start-ups and auxiliary power units prior to the end of the 6 am voluntary use restriction period, designation of close-in noise abatement departure procedures for various runways, establishment of air traffic control procedures for noise abatement, voluntary acquisition of approximately 210 residences within or adjacent to the 70 DNL noise contour, sound insulation of approximately 830 residences between the 65 DNL and 70 DNL noise contours, implementation of a formal Fair Disclosure Policy for real estate within the 65 DNL noise contour, a recommendation that the city of Warwick update its Comprehensive Plan to address the influence of the airport on surrounding community land use, investigation into the sound insulation of two schools outside of the 65 DNL noise contour, installation of a permanent noise monitoring system, implementation of a “Fly Quiet” public relations program, establishment of a continuing noise abatement committee to monitor and assist in the implementation of various noise abatement measures, further study analyze the possible extension of Runway 16-34 for noise abatement purposes, and continuation of various program measures from the 1986 approved Noise Compatibility Program.

FAA's determinations are set forth in detail in a Record of Approval endorsed by the Acting Associate Administrator on June 15, 2000. The Record of Approval, as well as other evaluation materials and the documents comprising the submittal, are available for review at the FAA office listed above and at the office of the Rhode Island Airport Corporation, T.F. Green Airport, 2000 Post Road, Warwick, RI.

Issued in Burlington, Massachusetts on June 22, 2000.
Bradley A. Davis,
Acting Manager, Airports Division, New England Region.

[FR Doc. 00-17611 Filed 7-11-00; 8:45 am]

BILLING CODE 4910-13-M